NATIONAL SCIENCE FOUNDATION

Advisory Committee for Mathematical and Physical Sciences; Notice of Meeting

In accordance with the Federal Advisory Committee Act (Pub. L. 92-463, as amended), the National Science Foundation (NSF) announces the following meeting:

Name And Committee Code: Advisory Committee for Mathematical and Physical Sciences (#66).

Date and Time:

October 23, 2019; 8:30 a.m. to 5:00 p.m.

October 24, 2019; 8:30 a.m. to 12:00 p.m.

Place: NSF, 2415 Eisenhower Avenue, Alexandria, VA 22314 (Open Meeting).

To attend the meeting in person, all visitors must contact the Directorate for MPS at least 48 hours prior to the meeting to arrange for a visitor's badge. All visitors must access NSF via the Visitor Center entry adjacent to the south building entrance on Eisenhower Avenue on the day of the meeting to receive a visitor's badge. It is suggested that visitors allow time to pass through security screening.

Type of Meeting: Open.

Contact Person: Nadège Aoki, National Science Foundation, 2415 Eisenhower Avenue, Room C 9015B, Alexandria, Virginia 22314; Telephone: 703/292-4934.

Summary of Minutes: Minutes and meeting materials will be available on the MPS Advisory Committee website at http://www.nsf.gov/mps/advisory.jsp or can be obtained from contact person listed above.

Purpose of Meeting: To provide advice, recommendations and counsel on major goals and policies pertaining to MPS programs and activities.

Agenda

Wednesday, October 23, 2019

—Call to Order and Official Opening of the Meeting—Anne Kinney, Assistant Director, MPS

—FACA and COI Briefing—Tomasz Durakiewicz, MPS

—Approval of Prior Meeting Minutes (2 meetings)—Catherine T. Hunt, MPSAC Chair

—UPDATE: MPS—Anne Kinney, Assistant Director, MPS

—AST COV Report Presentation—Roger Brissenden, Harvard-Smithsonian Center for Astrophysics

—AST COV Report discussion and vote on acceptance—MPSAC Chair

—DMR COV Report Presentation—Melissa Hines, Cornell University

—DMR COV Report discussion and vote on acceptance—MPSAC Chair

—MPS Broadening Participation Working Group, report and discussion

—Unstructured lunch conversations: Broadening Participation

—DISCUSSION: Broadening Participation—Carol Bessel

—Presentation by Carol Lynn Alpert, Director, Strategic Projects Group, Boston Museum of Science “Broadening Participation: Quantum Physics for All”

—Preparation for Meeting with NSF Director and COO

—Meeting and discussion with NSF Director and COO

—Closing remarks and adjourn for the day

Thursday, October 24, 2019

—Call to Order and Official Opening of the 2nd Day—Anne Kinney, Assistant Director, MPS

—FACA Briefing—Tomasz Durakiewicz, MPS

—Key Questions from May Meeting of MPS AC—reminder—Anne Kinney, Assistant Director, MPS

—DISCUSSION: Key Questions

—SynBio Subcommittee: Reminder, charge, short discussion—Germano Iannacchione

—SynBio Subcommittee: Vote—MPSAC Chair

—Magnetic Science and Facilities—Linda Sapochak

—Recap and revisit of the meeting + action items for the next meeting

—Adjourn—Anne Kinney, Assistant Director, MPS

Dated: October 1, 2019.
Crystal Robinson,
Committee Management Officer.

[FR Doc. 2019-21678 Filed 10-3-19; 8:45 am]

BILLING CODE 7555-01-P